DEPARTMENT OF HOMELAND SECURITY

Federal Emergency Management Agency

[Docket ID: FEMA-2015-0029; OMB No. 1660-0141]

Agency Information Collection Activities: Submission for OMB Review; Comment Request; Controlled Equipment Request Form

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 6, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on May 24, 2016, at 81 FR 32769, with a 60 day public comment period. No comments were received. The purpose of this notice is to notify the public that FEMA will submit the information collection abstracted below to the Office of Management and Budget for review and clearance.

Collection of Information

Title: Controlled Equipment Request Form.

Type of information collection: Extension, without change, of a currently approved information collection.

OMB Number: 1660-0141.

Form Titles and Numbers: FEMA Form 087-0-0-1, Controlled Equipment Request Form.

Abstract: This form was developed to collect required information as part of the implementation of Executive Order 13688: Federal Support for Local Law Enforcement Equipment Acquisition, issued January 16, 2015, which established a Prohibited Equipment List and a Controlled Equipment List and identified actions that can improve Federal support for the appropriate use, acquisition, and transfer of controlled equipment by state, local, tribal, territorial, and private grant recipients.

Affected Public: Business or other for-profit; State, Local, or Tribal Government.

Estimated Number of Respondents: 175.

Estimated Total Annual Burden Hours: 131 hours.

Estimated Cost: The estimated annual cost to respondents for the hour burden is $3,877.60. There are no annual costs to respondents' operations and maintenance costs for technical services. There are no annual start-up or capital costs. The cost to the Federal Government is $759.40.

Dated: August 1, 2016.
Richard W. Mattison,
Records Management Program Chief, Mission Support, Federal Emergency Management Agency, Department of Homeland Security.

[FR Doc. 2016-18640 Filed 8-4-16; 8:45 am]

BILLING CODE 9111-46-P